DEPARTMENT OF JUSTICE

Office of Justice Programs

[OJP (NIJ) Docket No. 1817]

Forensic Laboratory Needs-Technology Working Group

AGENCY: National Institute of Justice, Office of Justice Programs, U.S. Department of Justice.

ACTION: Notice.

SUMMARY: The National Institute of Justice (NIJ) is seeking qualified individuals to serve on the Forensic Laboratory Needs-Technology Working Group (FLN-TWG). The FLN-TWG was established in 2018 to build upon the work of the National Commission of Forensic Sciences.

DATES: Individuals wishing to submit an application to the National Institute of Justice must do so by 5 p.m. Eastern Time on December 29, 2023, as instructed below.

FOR FURTHER INFORMATION CONTACT: Danielle McLeod-Henning, Physical Scientist, Office of Investigative and Forensic Sciences, National Institute of Justice, 810 7th Street NW, Washington, DC 20531; telephone number: (202) 598-0562; email address: danielle.mcleod-henning@usdoj.gov.

SUPPLEMENTARY INFORMATION: The FLN-TWG is authorized under 6 U.S.C. 162(b)(2) and as such it will assess, advise, and provide relevant information regarding the technology needs of Federal, state, local, and tribal forensic laboratories to accomplish the mission of NIJ.

How To Respond and What To Include: To apply to serve on the FLN-TWG, please email a resume to the point of contact listed below by the deadline listed above. Please put “FLN-TWG” in the subject line. Application materials must be submitted electronically. Hardcopy application materials will not be accepted. There is no page limit or limit to the amount of information that an interested applicant may submit to demonstrate his, her, or their qualifications. More information on the individuals sought for the FLN-TWG is provided below. All materials submitted will be treated confidentially and discreetly and may be shared with U.S. Government staff or U.S. Government contractors for evaluation purposes related to selection for the FLN-TWG.

NIJ is seeking qualified individuals to serve on the FLN-TWG. The mission of the FLN-TWG is to advise, assess, and provide information to NIJ and its Federal partners on the technology needs of state, local, and tribal forensic laboratories to (1) improve coordination of technology transition or standardization, (2) identify localized or system-wide operational gaps or impediments to adoption, not including resource limitations, (3) increase the capacity and quality of forensic services within an ever-increasing demand for services nationwide.

NIJ anticipates that the FLN-TWG will be comprised of approximately 25 individuals who serve as forensic laboratory leaders or forensic science researchers and who are working in state and local forensic science laboratories, private forensic science laboratories, or academic settings. Laboratories can be independent or investigating agencies (such as associated with law enforcement). Federal employees can participate in an ex-officio capacity. Individuals will be selected to achieve the best possible balance of knowledge and expertise. Individuals who have recently retired from a leadership role in a forensic laboratory may be considered. Also, laboratory size, jurisdiction, and geographical dispersion will be considered when selecting members. FLN-TWG members will be asked to serve a three-year term with an opportunity to serve three terms (nine years total). New members will be added to FLN-TWG annually, as needed.

Submitted materials must clearly demonstrate the applicant's qualifications to serve on the FLN-TWG. Candidates should have practical or research experience in the forensic sciences and may serve as laboratory directors, managers, quality assurance managers, or researchers.

NIJ anticipates that the FLN-TWG will meet twice a year for no more than two working days. Meetings may be virtual or in-person. FLN-TWG chairs will meet for two additional meetings each year to set the agenda for the full working group meeting. If warranted, the FLN-TWG may meet in person, location to be determined. Additional meetings may be necessary to complete goals as determined by the working group. The majority of the work will be conducted by web conference, telephone, and email. Participation time will not be reimbursed; however, should travel be permitted, it is expected that travel and per diem expenses for travel will be reimbursed. Any potential reimbursements are subject to, inter alia, the availability of appropriated funds, and to any modifications or additional requirements that may be imposed by law.

Nancy La Vigne,
Director, National Institute of Justice.

[FR Doc. 2023-21092 Filed 9-26-23; 8:45 am]

BILLING CODE 4410-18-P